DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 27, 2004.

ADDRESSES: Written comments and recommendations on the proposed information collection should be sent to, U.S. Army Corps of Engineers, 441 G Street, NW., Room 3D72, Washington, DC 20314-1000, or by e-mail to Ellen.M.Cummings@usace.army.mil. Consideration will be given to all comments received within 60 days of the date of publication of this notice.

FOR FURTHER INFORMATION CONTACT: To request more information on this proposed information collection or to obtain a copy of the proposal and associated collection instruments, please write to the above address, or call Department of the Army Reports clearance officer at (703) 325-8433.

Title: Estuary Habitat Restoration Program.

Needs and Uses: The Corps will solicit applications for estuary habitat restoration projects under Section 104 of the Estuary Restoration Act 2000. Requested information will include proposed project location, types and acreage of habitat to be restored, and project description including restoration techniques, project goals and expected benefits, monitoring plan, costs, and other supporting information. Project applications may be submitted either electronically or in paper format.

Affected Public: State; Local or Tribal Government.

Annual Burden Hours: 1,000.

Number of Respondents: 100.

Responses Per Respondent: 1.

Average Burden Per Response: 10 hours.

Frequency: On occasion.

SUPPLEMENTARY INFORMATION: Information will be collected by voluntary submission of estuary habitat restoration project via e-mail, or paper submissions that may be accomplished by computer disk by regular mail or hand delivery. Supplemental information may also be collected via phone interviews.

Brenda S. Bowen,
Alternate Army Federal Register Liaison Officer.

[FR Doc. 04-17164 Filed 7-27-04; 8:45 am]

BILLING CODE 3710-08-M